DEPARTMENT OF COMMERCE

National Oceanic and Atmospheric Administration

15 CFR Part 922

Notice of Delay of Discharge Requirements for U.S. Coast Guard Activities in Greater Farallones and Cordell Bank National Marine Sanctuaries

AGENCY: Office of National Marine Sanctuaries (ONMS), National Ocean Service (NOS), National Oceanic and Atmospheric Administration (NOAA), Department of Commerce (DOC).

ACTION: Final rule; delay of effectiveness for discharge requirements with regard to Coast Guard activities.

SUMMARY: The National Oceanic and Atmospheric Administration (NOAA) expanded the boundaries of Gulf of the Farallones National Marine Sanctuary (now renamed Greater Farallones National Marine Sanctuary or GFNMS) and Cordell Bank National Marine Sanctuary (CBNMS) to an area north and west of their previous boundaries with a final rule published on March 12, 2015. The Final Rule entered into effect on June 9, 2015. At that time, NOAA postponed the effectiveness of the discharge requirements in both sanctuaries' regulations with regard to U.S. Coast Guard activities for 6 months. This document extends the postponement of the discharge requirements for these activities for another 6 months to provide adequate time for completion of an environmental assessment, and subsequent rulemaking, as appropriate.

DATES: The effectiveness for the discharge requirements in both CBNMS and GFNMS expansion areas with regard to U.S. Coast Guard activities is June 9, 2016.

ADDRESSES: Copies of the FEIS, final management plans, and the final rule published on March 12, 2015 can be viewed or downloaded at http://farallones.noaa.gov/manage/expansion_cbgf.html.

FOR FURTHER INFORMATION CONTACT: Maria Brown, Greater Farallones National Marine Sanctuary Superintendent, at Maria.Brown@noaa.gov or 415-561-6622; or Dan Howard, Cordell Bank National Marine Sanctuary Superintendent, at Dan.Howard@noaa.gov or 415-464-5260.

SUPPLEMENTARY INFORMATION: On March 12, 2015, NOAA expanded the boundaries of Gulf of the Farallones National Marine Sanctuary (now renamed Greater Farallones National Marine Sanctuary or GFNMS) and Cordell Bank National Marine Sanctuary (CBNMS) to an area north and west of their previous boundaries with a final rule (80 FR 13078). The Final Rule entered into effect on June 9, 2015 (80 FR 34047). At that time, NOAA postponed the effectiveness of the discharge requirements in both sanctuaries' regulations with regard to U.S. Coast Guard (USCG) activities for 6 months.

This document postpones the effectiveness of the discharge requirements in both sanctuaries with regard to USCG activities for another 6 months, until June 9, 2016. In the course of the rule making to expand GFNMS and CBNMS, NOAA learned from USCG that the discharge regulations had the potential to impair the operations of USCG vessels and air craft conducting law enforcement and on-water training exercises in GFNMS and CBNMS. The USCG supports national marine sanctuary management by providing routine surveillance and dedicated law enforcement of the National Marine Sanctuaries Act and sanctuary regulations.

To ensure that the March 12, 2015 rule does not undermine USCG's ability to perform its duties, NOAA postponed for 6 months the effectiveness of the discharge requirements for USCG operations. Specifically, the effectiveness of the discharge requirements was postponed until December 9, 2015. However, NOAA needs more time to assess USCG activities and develop alternatives for an environmental assessment developed pursuant to the requirements of the National Environmental Policy Act. Therefore, NOAA is postponing the effectiveness of the discharge requirements with respect to USCG operations for another 6 months, until June 9, 2016. During this time, NOAA will consider how to address USCG's concerns and will consider, among other things, whether to exempt certain USCG activities in sanctuary regulations. The public, other federal agencies, and interested stakeholders will be given an opportunity to comment on various alternatives that are being considered. This will include the opportunity to review any proposed rule and related environmental analysis.

Authority: 16 U.S.C. 1431 et seq.; 16 U.S.C. 470.

Dated: November 20, 2015.
John Armor,
Acting Director for the Office of National Marine Sanctuaries.

[FR Doc. 2015-30434 Filed 11-30-15; 8:45 am]

BILLING CODE 3510-NK-P